DEPARTMENT OF ENERGY

Federal Energy Regulatory Commission

Combined Notice of Filings

Take notice that the Commission has received the following Natural Gas & Oil Pipeline Rate and Refund Report filings:

Filings Instituting Proceedings

Docket Numbers: PR23-48-000.

Applicants: Spire Storage Salt Plains LLC.

Description: § 284.123(g) Rate Filing: Spire Storage Salts Plains SOC—April 2023 to be effective 4/1/2023.

Filed Date: 4/26/23.

Accession Number: 20230426-5169.

Comment Date: 5 p.m. ET 5/17/23.

Protest Date: 5 p.m. ET 6/26/23.

Docket Numbers: RP23-710-000.

Applicants: Northern Border Pipeline Company.

Description: Compliance filing: 2023 Operational Purchases and Sales Report to be effective N/A.

Filed Date: 4/26/23.

Accession Number: 20230426-5173.

Comment Date: 5 p.m. ET 5/8/23.

Docket Numbers: RP23-711-000.

Applicants: Transcontinental Gas Pipe Line Company, LLC.

Description: Compliance filing: Rate Schedule S-2 OFO Flow Through Refund Report April 2023 to be effective N/A.

Filed Date: 4/27/23.

Accession Number: 20230427-5041.

Comment Date: 5 p.m. ET 5/9/23.

Docket Numbers: RP23-712-000.

Applicants: Florida Gas Transmission Company, LLC.

Description: § 4(d) Rate Filing: New Service Agreements—Brotman II to be effective 5/1/2023.

Filed Date: 4/27/23.

Accession Number: 20230427-5085.

Comment Date: 5 p.m. ET 5/9/23.

Docket Numbers: RP23-713-000.

Applicants: Florida Gas Transmission Company, LLC.

Description: § 4(d) Rate Filing: New NRA-Denbury and Update Non-Conforming List to be effective 5/1/2023.

Filed Date: 4/27/23.

Accession Number: 20230427-5086.

Comment Date: 5 p.m. ET 5/9/23.

Docket Numbers: RP23-714-000.

Applicants: Rover Pipeline LLC.

Description: § 4(d) Rate Filing: Housekeeping Filing—Remove Surcharge-Related Language to be effective 5/27/2023.

Filed Date: 4/27/23.

Accession Number: 20230427-5174.

Comment Date: 5 p.m. ET 5/9/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2023.
Debbie-Anne A. Reese,
Deputy Secretary.

[FR Doc. 2023-09385 Filed 5-2-23; 8:45 am]

BILLING CODE 6717-01-P